DEPARTMENT OF THE INTERIOR

Fish and Wildlife Service

[FWS-R8-ES-2009-N147; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before August 20, 2009.

ADDRESSES: Written data or comments should be submitted to the U.S. Fish and Wildlife Service, Endangered Species Program Manager, Region 8, 2800 Cottage Way, Room W-2606, Sacramento, CA, 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-217119

Applicant: Carie M. Wingert, San Luis Obispo, California.

The applicant requests a permit to take (harass by survey) the California least tern (Sterna Antillarum browni), and take (capture, handle, and release) the giant kangaroo rat (Dipodomys ingens) and Tipton kangaroo rat (Dipodomys nitratoides nitratoides) in conjunction with surveys and population monitoring studies throughout the range of each species in California for the purpose of enhancing their survival.

Permit No. TE-785148

Applicant: AMEC Earth and Environmental, San Diego, California.

The applicant requests an amendment to an existing permit (August 28, 2001, 66 FR 45322) to take (harass by survey, and locate/monitor nests) the California least tern (Sterna Antillarum browni) in conjunction with surveys and population monitoring studies throughout the range of the species in California for the purpose of enhancing its survival.

Permit No. TE-214148

Applicant: Patrick W. Del Pizzo, San Diego, California.

The applicant requests a permit to take (harass by survey, and locate/monitor nests) the California least tern (Sterna Antillarum browni) in conjunction with surveys and population monitoring studies throughout the range of the species in California for the purpose of enhancing its survival.

Permit No. TE-217402

Applicant: Julie M. Love, Santa Barbara, California.

The applicant requests a permit to take (survey, capture, and release) the tidewater goby (Eucyclogobius newberryi) in conjunction with surveys and population monitoring throughout the range of the species in California for the purpose of enhancing its survival.

Permit No. TE-217401

Applicant: Cristina V. Slaughter, Santa Barbara, California.

The applicant requests a permit to take (survey, capture, and release) the tidewater goby (Eucyclogobius newberryi) and Arroyo southwestern (Bufo microscaphus californicus) in conjunction with surveys and population monitoring throughout the range of each species in California for the purpose of enhancing their survival.

Permit No. TE-781084

Applicant: Anita M. Hayworth, Encinitas, California.

The applicant requests an amendment to an existing permit (March 15, 1996, 61 FR 10779) to take (capture, collect, and kill) the Conservancy fairy shrimp (Branchinecta conservatio), the longhorn fairy shrimp (Branchinecta longiantenna), and the vernal pool tadpole shrimp (Lepidurus packardi) in conjunction with surveys throughout the range of each species in California for the purpose of enhancing their survival.

Permit No. TE-217663

Applicant: Ann M. Dalkey, Redondo Beach, California.

The applicant requests a permit to take (survey by pursuit) the Palos Verdes blue butterfly (Glaucopsyche lygdamus) in conjunction with surveys throughout the range of each species within the jurisdiction of the Carlsbad Fish and Wildlife Office, in California, for the purpose of enhancing its survival.

Permit No. TE-802450

Applicant: Arthur E. Davenport, Barstow, California.

The applicant requests an amendment to an existing permit (June 8, 1995, 60 FR 30314) to take (harass by survey) the southwestern willow flycatcher (Empidonax trailli extimus) in conjunction with surveys throughout the range of the species in California for the purpose of enhancing its survival.

Permit No. TE-036499

Applicant: National Park Service, Golden Gate National Recreation Area, Santa Barbara, California.

The applicant requests an amendment to an existing permit (February 12, 2001, 66 FR 9877) to take (translocate) the tidewater goby (Eucyclogobius newberryi) in conjunction with restoration and population monitoring throughout the range of the species in California for the purpose of enhancing its survival.

Permit No. TE-218630

Applicant: Irena M. Mendez, Santa Monica, California.

The applicant requests a permit to take (survey by pursuit) the El Segundo Blue butterfly (Euphilotes battoides allyni) in conjunction with surveys and population monitoring throughout the range of the species in California for the purpose of enhancing its survival.

Permit No. TE-045153

Applicant: Dustin S. Janeke, San Diego, California.

The applicant requests a permit to take (survey by pursuit) the Quino checkerspot butterfly (Euphydryas editha quino) in conjunction with surveys; and take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-175386

Applicant: USGS, California Cooperative Research Unit, Arcata, California.

The applicant requests an amendment to an existing permit (August 13, 2008, 73 FR 47206) to take (survey, capture, handle, release, remove from wild and kill) the Lost river sucker (Deltistes luxatus) in conjunction with surveys, research, and demographic studies in Klamath County, Oregon, for the purpose of enhancing their survival.

Permit No. TE-219638

Applicant: Angela M. Calderaro, Rancho Cordova, California.

The applicant requests a permit to take (harass by survey, capture, handle, and release) the California tiger salamander (Ambystoma californiense) in conjunction with surveys; and take (capture, collect, and kill) the Conservancy fairy shrimp (Branchinecta conservatio), the longhorn fairy shrimp (Branchinecta longiantenna), the Riverside fairy shrimp

(Streptocephalus wootoni), the San Diego fairy shrimp (Branchinecta sandiegonensis), and the vernal pool tadpole shrimp (Lepidurus packardi) in conjunction with surveys and research throughout the range of each species in California for the purpose of enhancing their survival.

We invite public review and comment on each of these recovery permit applications. Comments and materials we receive will be available for public inspection, by appointment, during normal business hours at the address listed in the ADDRESSES section of this notice.

Dated: July 15, 2009.
Diane Elam,
Acting Regional Director, Region 8, Sacramento, California.

[FR Doc. E9-17270 Filed 7-20-09; 8:45 am]

BILLING CODE 4310-55-P